DEPARTMENT OF DEFENSE

Office of the Secretary

[Transmittal No. 25-33]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-33, Policy Justification, and Sensitive of Technology.

Dated: January 12, 2026.
Stephanie J. Bost,
Alternate OSD Federal Register Liaison Officer, Department of Defense.

BILLING CODE 6001-FR-P

BILLING CODE 6001-FR-C

Transmittal No. 25-33

Notice of Proposed Issuance of Letter of Offer Pursuant to Section 36(b)(1) of the Arms Export Control Act, as amended

(i) Prospective Purchaser: Kingdom of Saudi Arabia

(ii) Total Estimated Value:

Major Defense Equipment * | $3.10 billion
Other | $ .40 billion
TOTAL | $3.50 billion

Funding Source: National Funds

(iii) Description and Quantity or Quantities of Articles or Services under Consideration for Purchase:

Major Defense Equipment (MDE):

One thousand (1,000) AIM-120C-8 Advanced Medium Range Air-to-Air Missiles (AMRAAM)

Fifty (50) AIM-120C-8 AMRAAM guidance sections

Non-Major Defense Equipment:

The following non-MDE items will also be included: AMRAAM control section spares, missile containers, and support equipment; spare parts, consumables, accessories, and repair and return support; weapon system support; classified and unclassified software delivery and support; classified and unclassified publications and technical documentation; studies and surveys; United States (U.S.) Government and contractor engineering, technical, and logistics support services; and other related elements of logistics and program support.

(iv) Military Department: Air Force (SR-D-YAI)

(v) Prior Related Cases, if any: SR-D-YAG, SR-D-YAH

(vi) Sales Commission, Fee, etc., Paid, Offered, or Agreed to be Paid: None known at this time

(vii) Sensitivity of Technology Contained in the Defense Article or Defense Services Proposed to be Sold: See Attached Annex

(viii) Date Report Delivered to Congress: May 2, 2025

* as defined in Section 47(6) of the Arms Export Control Act.

POLICY JUSTIFICATION

Kingdom of Saudi Arabia—AIM-120C-8 Advanced Medium Range Air-to-Air Missiles

The Kingdom of Saudi Arabia has requested to buy one thousand (1,000) AIM-120C-8 Advanced Medium Range Air-to-Air Missiles (AMRAAM) and fifty (50) AIM-120C-8 AMRAAM guidance sections. The following non-MDE items will also be included: AMRAAM control section spares, missile containers, and support equipment; spare parts, consumables, accessories, and repair and return support; weapon system support; classified and unclassified software delivery and support; classified and unclassified publications and technical documentation; studies and surveys; U.S. Government and contractor engineering, technical, and logistics support services; and other related elements of logistics and program support. The estimated total cost is $3.50 billion.

This proposed sale will support the foreign policy goals and national security objectives of the U.S. by improving the security of a partner country that contributes to political stability and economic progress in the Gulf Region.

The proposed sale of this equipment and support will not alter the military balance in the region.

The principal contractor will be RTX Corporation, located in Tucson, AZ. At this time, the U.S. Government is not aware of any offset agreement proposed in connection with this potential sale. Any offset agreement will be defined in negotiations between the purchaser and the contractor.

Implementation of this proposed sale will not require the assignment of any additional U.S. Government or contractor representatives to Kingdom of Saudi Arabia.

There will be no adverse impact on U.S. defense readiness as a result of this proposed sale.

Transmittal No. 25-33

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept guided missile featuring digital technology and micro-miniature solid-state electronics. AMRAAM capabilities include look-down/shoot-down, multiple launches against multiple targets, resistance to electronic countermeasures, and interception of high and low-flying maneuvering targets.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Saudi Arabia can provide substantially the same degree of protection for the sensitive technology being released as the U.S. Government. This sale is necessary in furtherance of the U.S. foreign policy and national security objectives outlined in the Policy Justification.

5. All defense articles and services listed in this transmittal have been authorized for release and export to the Kingdom of Saudi Arabia.

[FR Doc. 2026-00712 Filed 1-14-26; 8:45 am]

BILLING CODE 6001-FR-P